DEPARTMENT OF THE INTERIOR

Minerals Management Service

Outer Continental Shelf, Pacific Region, Environmental Document Prepared for ExxonMobil Offshore Power System Repair (OSPR) Project

AGENCY: Minerals Management Service (MMS).

ACTIONS: Notice of Availability of Mitigated Negative Declaration/Environmental Assessment (MND/EA).

SUMMARY: The MMS and the Santa Barbara County Planning and Development Department (SBC) have jointly prepared a MND/EA for ExxonMobil's OSPR Project pursuant to the requirements of the California Environmental Quality Act (CEQA) and the National Environmental Policy Act (NEPA).

DATES: MMS and SBC completed the MND/EA on February 19, 2003. MMS issued a Finding of No Significant Impact (FONSI) on February 19, 2003.

FOR FURTHER INFORMATION CONTACT: Mr. John Smith, Minerals Management Service, Pacific OCS Region, 770 Paseo Camarillo, Camarillo, CA, 93010, telephone (805) 389-7833. The MND/EA is posted on the MMS Web site at http://www.mms.gov/omm/pacific/. A digital copy of the MND/EA on a Compact Disk may be requested by calling 1-800-6-PAC-OCS (1.800.672.2627), or by sending a request to the above address.

SUPPLEMENTARY INFORMATION: The MMS prepares EA's and Findings for Outer Continental Shelf (OCS) oil and gas exploration and development activities and other operations on the Pacific OCS. ExxonMobil's OSPR Project involves replacing a failed power cable (17 miles) linking OCS Platform Heritage with the onshore Las Flores Canyon Processing Facility and installing a new cable (4 miles) between OCS Platforms Hondo and Harmony to provide redundancy in the event of a future cable failure. The MMS and SBC prepared a joint environmental document (MND/EA) for the OSPR Project to facilitate review of the project by regulatory agencies, the public, and other interested parties. The MND/EA examines the potential environmental effects of the OSPR project and presents MMS and SBC conclusions regarding the significance of those effects. Pursuant to CEQA, MND's are prepared to determine whether proposed projects have the potential to result in significant environmental effects. The MMS prepares EA's to determine whether proposed projects constitute a major Federal action that significantly affects the quality of the human environment in the sense of NEPA 102(2)(C). A FONSI is prepared in those instances where the MMS finds the project will not result in significant effects on the quality of the human environment. The FONSI briefly presents the basis for that finding and includes a summary or copy of the EA. This notice constitutes the public Notice of Availability of environmental documents required under the NEPA regulations.

Dated: July 15, 2003.
Peter L. Tweedt,
Regional Manager, Pacific OCS Region, Minerals Management Service.

[FR Doc. 03-21036 Filed 8-15-03; 8:45 am]

BILLING CODE 4310-MR-P